DEPARTMENT OF THE INTERIOR

Bureau of Indian Affairs

[156A2100DD/AAKC001030/A0A501010.999900 253G]

Proclaiming Certain Lands as Reservation for the Shakopee Mdewakanton Sioux Community of Minnesota

AGENCY: Bureau of Indian Affairs, Interior.

ACTION: Notice of reservation proclamation.

SUMMARY: This notice informs the public that the Assistant Secretary—Indian Affairs proclaimed approximately 104.40 acres, more or less, as an addition to the Reservation of the Shakopee Mdewakanton Sioux Community of Minnesota on September 22, 2015.

FOR FURTHER INFORMATION CONTACT: Ms. Sharlene Round Face, Bureau of Indian Affairs, Division of Real Estate Services, MS-4642-MIB, 1849 C Street NW., Washington, DC 20240, Telephone: (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 467), for the land described below. The land was proclaimed to be an addition to the Shakopee Mdewakanton Sioux Community Reservation for the exclusive use of Indians entitled by enrollment or by tribal membership to residence at such reservation.

Reservation of the Shakopee Mdewakanton Sioux Community, Township of Prior Lake, County of Scott, State of Minnesota, MWCC Parcel 3 (Tessmer), Legal Description, Containing 104.40 acres more or less.

The East Half of the Southeast Quarter of Section 33, Township 115 North, Range 22 West of the 5th Principal Meridian, according to the United States Government Survey thereof and situated in Scott County, Minnesota.

AND

That part of the West 24.00 acres of the Northwest Quarter of the Southwest Quarter of Section 34, Township 115 North, Range 22 West of the 5th Principal Meridian, Scott County, Minnesota lying West of the East 16.00 acres of said Northwest Quarter of the Southwest Quarter, according to the United States Government survey thereof and situated in Scott County, Minnesota.

This proclamation does not affect title to the land described above, nor does it affect any valid existing easements for public roads and highways, for public utilities and for railroads or pipelines and any other rights-of-way or reservations of record.

Dated: September 22, 2015.
Kevin K. Washburn,
Assistant Secretary—Indian Affairs.

[FR Doc. 2015-24797 Filed 10-1-15; 8:45 am]

BILLING CODE 4337-15-P